NUCLEAR REGULATORY COMMISSION

[Docket No. 70-143]

Eastman Kodak Company; Environmental Assessment and Finding of No Significant Impact Related to Proposed License Amendment Authorizing Exemption to 10 CFR 70.24

AGENCY: Nuclear Regulatory Commission.

ACTION: Environmental Assessment and Finding of No Significant Impact.

FOR FURTHER INFORMATION CONTACT: Mary T. Adams, Fuel Manufacturing Branch, Division of Fuel Cycle Safety and Safeguards, Office of Nuclear Material Safety and Safeguards, U.S. Nuclear Regulatory Commission, Mail Stop E-2C40M, Washington, DC 20555-0001, telephone (301) 492-3113 and e-mail mta@nrc.gov.

SUPPLEMENTARY INFORMATION:

I. Introduction

The U.S. Nuclear Regulatory Commission (NRC) staff is considering a request to amend Materials License SNM-1513, issued to Eastman Kodak Company (Kodak), to authorize an exemption to the criticality accident alarm system requirements of 10 CFR 70.24. The NRC has prepared an Environmental Assessment (EA) in support of this action. Based upon the EA, the NRC has concluded that a Finding of No Significant Impact (FONSI) is appropriate and, therefore, an Environmental Impact Statement (EIS) will not be prepared.

II. Environmental Assessment

Introduction: Eastman Kodak Company (Kodak) in Rochester, New York, has been licensed since 1966 to possess and use special nuclear material (SNM) in a research and development (R&D) facility. This license was issued pursuant to 10 CFR part 70, Domestic Licensing of Special Nuclear Material. In July 2006, Kodak notified NRC that it had ceased principal activities and intended to decommission the facility and terminate the SNM license. Before decommissioning activities can begin, Kodak intends to remove the SNM by packaging the material and transporting it to a Department of Energy facility.

Kodak possessed and used the SNM in the R&D facility with an exemption from nuclear criticality accident alarm system requirements of 10 CFR 70.24; NRC granted this exemption because the configuration of the SNM was fixed and a criticality accident was not credible. Kodak will change the SNM configuration during packaging, and will provide portable criticality accident alarms for the packaging activity. After packaging the SNM, Kodak will move the packages from the R&D facility through a long corridor to a loading dock where the packages will be loaded onto a truck for transport off the Kodak site. Kodak requested an exemption from the alarm system requirements for the corridor and loading dock, on the basis that the configuration of the SNM in the transportation packages was such that an accidental criticality is not credible. NRC staff reviewed the exemption request and determined that it provided an adequate demonstration that the criteria in 10 CFR 70.17(a) for granting a specific exemption from 70.24 have been met.

Description of the Proposed Action: The proposed action is NRC's granting an exemption from 10 CFR 70.24 for certain locations of the Kodak facility for a very short time during movement of SNM. In a letter dated October 5, 2007, Kodak requested an exemption to the criticality accident alarm system requirements of 10 CFR 70.24 for portions of the facility where SNM will be staged prior to loading onto a truck for transportation to an offsite location. Kodak possesses a critical mass of SNM that will be packaged into critically-safe transportation containers inside the facility and then moved along a corridor to a loading dock. Kodak will provide accident alarm system coverage for the area of the facility where the SNM will be packaged, but has requested an exemption for the corridor and loading dock.

Need for the Proposed Action: This exemption is necessary to allow Kodak to move the SNM from the location where it has been used and packaged to the loading dock without the necessity to provide criticality accident alarm system coverage. Kodak provided a criticality safety analysis that demonstrated that a criticality accident is not credible after the SNM has been packaged for transport.

Alternatives to the Proposed Action: An alternative to granting the exemption would be to require Kodak to provide accident alarm coverage for the corridor and loading dock. The licensee has demonstrated that the available fuel is much less than the critical mass for a 6M2R shipping container. Thus, a criticality event is not credible so long as the 6M2R containers are closed, and criticality accident alarm system coverage is not necessary.

Environmental Impacts of the Proposed Action and Alternatives: There will be no environmental impact to granting this exemption. The alarm system required by 10 CFR 70.24 does not prevent accidental criticality; the system would reduce the dose to workers and members of the public from a criticality accident by warning them of the criticality event so that they can move away from the area. Kodak has demonstrated adequately that a criticality accident in the corridor or on the loading dock is sufficiently unlikely and that an alarm system is not needed. There will be no environmental impact from the alternative of requiring alarm coverage for the corridor and loading dock.

No environmental resources will be affected.

Conclusion: NRC has concluded that granting the requested exemption will have no significant impact on the environment, is in conformance with NRC regulations in 10 CFR part 70, is authorized by law, and will not endanger life or property or the common defense and security and is in the public interest.

III. Finding of No Significant Impact

The Commission has prepared an Environmental Assessment related to the amendment of Special Nuclear Material License SNM-1513. On the basis of the assessment, the Commission has concluded that environmental impacts associated with the proposed action would not be significant and do not warrant the preparation of an Environmental Impact Statement. Accordingly, the Commission is making a Finding of No Significant Impact.

The Environmental Assessment and the documents related to this proposed action are available for public inspection and copying at the NRC Public Document Room or through the Publicly Available Records (PARS) component of NRC's Agencywide Documents Access and Management System (ADAMS). ADAMS is accessible through the NRC Web site at http://www.nrc.gov/reading-rm/adams.html (the Public Electronic Reading Room).

Agencies and Persons Consulted: New York State Department of Health.

IV. Further Information

1. Eastman Kodak Company Amendment to SNM-1513, February 9, 2007, ML072200332.

2. Eastman Kodak Company Response to NRC Review Comments from License Amendment Application for Decommissioning of Kodak Californium Flux Multiplier, SNM-1513, Docket 7001703, June 18, 2007, ML071970253.

3. Eastman Kodak Company Request for exemption from 10 CFR 70.24 for License Amendment Application for Decommissioning of Kodak Californium Flux Multiplier, SNM-1513, Docket 7001703, October 5, 2007, ML072880667.

4. Environmental Review Guidance for Licensing Actions Associated with NMSS Programs, NUREG-1748, August 2003, ML032540811.

Dated at Rockville, Maryland this 31st day of October, 2007.
For the U.S. Nuclear Regulatory Commission.
Peter Habighorst,
Chief, Fuel Manufacturing Branch, Division of Fuel Cycle Safety and Safeguards, Office of Nuclear Material Safety and Safeguards.

[FR Doc. E7-22183 Filed 11-13-07; 8:45 am]

BILLING CODE 7590-01-P